DEPARTMENT OF COMMERCE

Submission for OMB Review; Comment Request

DOC has Submitted to the Office of Management and Budget (OMB) for Clearance the Following Proposal for Collection of Information Under the Provisions of the Paperwork Reduction Act (44 U.S.C. Chapter 35).

AGENCY: U.S. Census Bureau.

Title: Survey of Plant Capacity Utilization.

Form Number(s): MQ-C1.

Agency Approval Number: 0607-0175.

Type of Request: Extension of a currently approved collection.

Burden: 38,250 hours.

Number of Respondents: 17,000.

Avg Hours Per Response: 2 hours and 15 minutes.

Needs and Uses: The Census Bureau requests an extension of approval to conduct the Survey of Plant Capacity Utilization. The survey was conducted annually from 1973 through 1988 and 1996 through 2003 and biennially from 1990 through 1994. The survey provides information on use of industrial capacity in manufacturing and publishing plants as defined by the North American Industry Classification System (NAICS). It is the only source of capacity rates at the 6-digit NAICS industry levels.

Changes in capacity utilization are considered important indicators of investment demand and inflationary pressure. For these reasons, the estimates of capacity utilization are closely monitored by government and private policy makers.

The survey collects the value of fourth quarter production and the value of production that could have been achieved if operating under “full production” and “emergency production” levels. The ratios of the actual to the full and emergency production levels are the basis of the estimates of capacity utilization. The survey also collects information by shift on work patterns at actual production and full production levels.

Government and private economists, defense and emergency planners and the academic community are the primary users of the data. Without this survey, these data users would have no industry data for analytical purposes. The Federal Reserve Board (FRB) uses the data to benchmark its monthly estimates of capacity output and utilization. In addition, FRB uses these data to analyze changes in the use of capital, capital stocks and inputs related to capacity growth. The Defense Logistics Agency (DLA) uses the data to assess industry readiness to meet demand for goods under selected national emergency scenarios pertaining to the National Defense Stockpile requirements planning process for strategic and critical materials.

Affected Public: Business or other for-profit.

Frequency: Annually.

Respondent's Obligation: Mandatory.

Legal Authority: Title 13 U.S.C., section 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: June 28, 2004.
Madeleine Clayton,
Management Analyst, Office of the Chief Information Officer.

[FR Doc. 04-15010 Filed 7-1-04; 8:45 am]

BILLING CODE 3510-07-P